DEPARTMENT OF COMMERCE

Foreign-Trade Zones Board

[S-235-2019]

Approval of Expansion of Subzone 7F; Puma Energy Caribe, LLC; Guaynabo, Puerto Rico

On November 19, 2019, the Executive Secretary of the Foreign-Trade Zones (FTZ) Board docketed an application submitted by the Puerto Rico Industrial Development Company, grantee of FTZ 7, requesting an expansion of Subzone 7F subject to the existing activation limit of FTZ 7, on behalf of Puma Energy Caribe, LLC, in Guaynabo, Puerto Rico.

The application was processed in accordance with the FTZ Act and Regulations, including notice in the Federal Register inviting public comment (84 FR 64830, November 25, 2019). The FTZ staff examiner reviewed the application and determined that it meets the criteria for approval.

Pursuant to the authority delegated to the FTZ Board's Executive Secretary (15 CFR Sec. 400.36(f)), the application to expand Subzone 7F was approved on February 27, 2020, subject to the FTZ Act and the Board's regulations, including Section 400.13, and further subject to FTZ 7's 2,000-acre activation limit.

Dated: February 27, 2020.
Andrew McGilvray,
Executive Secretary.

[FR Doc. 2020-04510 Filed 3-4-20; 8:45 am]

BILLING CODE 3510-DS-P